NUCLEAR REGULATORY COMMISSION

Advisory Committee on Reactor Safeguards (ACRS); Subcommittee Meeting on Materials, Metallurgy, and Reactor Fuels; Postponed

The ACRS Subcommittee meeting on Materials, Metallurgy, and Reactor Fuels scheduled to be held on Wednesday, February 21, 2007, Room T-2B3, 11545 Rockville Pike, Rockville, Maryland has been postponed to Tuesday, March 6, 2007, 1 p.m. until the conclusion of business. Also, a portion of this meeting may be closed to discuss industry proprietary information applicable to this matter, pursuant to 5 U.S.C. 552b(c)(4).

All other items pertaining to this meeting remain the same as published previously in the Federal Register on Friday, February 2, 2007 (72 FR 5087).

For future information contact: Mr. Gary Hammer, cognizant ACRS staff engineer (telephone 301/415-7363) between 7:15 a.m. and 5 p.m. (ET) or by e-mail: cgh@nrc.gov.

Date: February 8, 2007.
David C. Fischer,
Acting Branch Chief, ACRS.

[FR Doc. E7-2622 Filed 2-14-07; 8:45 am]

BILLING CODE 7590-01-P